DEPARTMENT OF COMMERCE

National Oceanic and Atmospheric Administration

[Docket No. 020213030-2030-01; I.D. No. 012202C ]

Announcement of Funding Opportunity to Submit Proposals for the Monitoring and Event Response for Harmful Algal Blooms (MERHAB) Program

AGENCY: Center for Sponsored Coastal Ocean Research/Coastal Ocean Program (CSCOR/COP), National Ocean Service (NOS), National Oceanic and Atmospheric Administration (NOAA), Department of Commerce (DOC).

ACTION: Notice of funding availability for financial assistance for project grants and cooperative agreements.

SUMMARY: The purpose of this document is to advise the public that CSCOR/COP is soliciting proposals for two types of projects: targeted research and regional intensive monitoring.

CSCOR/COP is soliciting targeted research proposals for one to three years of research and development of tools, approaches and technologies that could be included as routine components of existing Harmful Algal Bloom (HAB) monitoring programs. CSCOR/COP is also soliciting proposals from regional multi-investigator partnerships of one to five years for intensive monitoring of HABs that build the capacity of existing local, state, tribal, or regional coastal monitoring programs to provide early warning of HAB events to coastal communities and increase regional ability to rapidly respond to HAB events. Funding is contingent upon the availability of Federal appropriations. Projects funded under this announcement are anticipated to have a September 1, 2002, start date.

DATES: The deadline for receipt of proposals at the CSCOR/COP office is 3 p.m., e.s.t., April 25, 2002. Note that late-arriving applications provided to a delivery service on or before April 24, 2002, with delivery guaranteed before 3 p.m., e.s.t., on April 25, 2002, will be accepted for review if the applicant can document that the application was provided to the delivery service with delivery to the address listed below guaranteed prior to the specified closing date and time and, in any event, the proposals are received in the CSCOR/COP office by 3 p.m. e.s.t., no later than two business days following the closing date.

ADDRESSES: Submit the original and 19 copies of your proposal to (MERHAB02) Center for Sponsored Coastal Ocean Research/Coastal Ocean Program (N/SCI2), SSMC No. 4, 8th Floor, Station 8243, 1305 East-West Highway, Silver Spring, MD 20910. NOAA and Standard Form Applications with instructions are accessible on the CSCOR/COP Internet site http://www.cop.noaa.gov under the COP Grants Information Section, Part D, Application Forms for Initial Proposal Submission. For application forms, see Budget and

Application forms section. Forms may be viewed and, in most cases, filled in by computer. All forms must be printed, completed, and mailed to CSCOR/COP with original signatures. If you are unable to access this information, you may call CSCOR/COP at 301-713-3338 to leave a mailing request.

FOR FURTHER INFORMATION CONTACT: Technical Information. Marc Suddleson, MERHAB 2002 Program Manager, CSCOR/COP, 301-713-3338/ext 162, Internet: marc.suddleson@noaa.gov

Business Management Information. Leslie McDonald, COP Grants Administrator, 301-713-3338/ext 155, Internet: Leslie.McDonald@noaa.gov

SUPPLEMENTARY INFORMATION: The following web sites furnish supplementary information from reports dealing with harmful algal blooms: Boesch et.al Feb 1997, Harmful Algal Blooms in Coastal Waters: Options for Prevention, Control and Mitigation, Silver Spring, MD at http://www.cop.noaa.gov/pubs/das/das10.html; and Anderson et.al. Sept 2000, Estimated Annual Economic Impact from Harmful Algal Blooms (HABs) in the U.S. WHOI at http://www.redtide.whoi.edu/hab pertinentinfo /Economics_Report.pdf).

Information on the Harmful Algal Bloom and Hypoxia Research and Control Act and the 2000 National Assessment of HABs in U.S. Waters, National Science and Technology Council Committee on Environment and Natural Resources (CENR), Washington, DC, can be located at http://www.habhrca.noaa.gov.

Details about ongoing MERHAB projects currently funded by the CSCOR/COP MERHAB Program are found at

http://www.cop.noaa.gov/Fact_Sheets/MERHAB.htm. Hard copies of these resources can be obtained from the CSCOR/COP office.

Background

Program Description

For complete program description and other requirements for CSCOR/COP, see the General Grant Administration Terms and Conditions annual notification in the Federal Register (66 FR 63019, December 4, 2001) and at the CSCOR/COP home page.

In spite of a growing list of affected resources and coastal communities, our ability to prevent, control, and mitigate the impacts of HABs remains limited. Acting on the findings of a 1996 NOAA and DOI Report, Harmful Algal Blooms in Coastal Waters: Options for Prevention, Control and Mitigation, the research agenda of the Ecology and Oceanography of Harmful Algal Bloom (ECOHAB) program for the past five years has focused on building a scientific understanding about the cause and behavior of HABs. ECOHAB continues to support research that develops understandings of the linkages between the biology, ecology, physiology, and behavior of harmful species and the physics, chemistry, bathymetry, and meteorology of the surrounding environment. ECOHAB research is developing the capabilities to forecast bloom landfall, evaluate toxicity, and provide mitigation strategies that might ameliorate the impact of blooms along U.S. coasts. ECOHAB is also producing new state-of-the art HAB technologies, such as detection assays and molecular probes.

With the maturation of ECOHAB and other HAB research programs, more effort is needed to adapt their research products into regionally and locally tested tools that can be used to prevent, control, or mitigate the impact of HABs. The 1996 NOAA and DOI Report noted that knowledge about the basic information on the causes and behavior of HABs would ultimately lead to the development of prevention, control, and mitigation (PCM) strategies. The plan called for Federal and state agencies with responsibilities for resource management, environmental protection, and public health to support PCM research.

While prevention of HABs is the preferred management option, effort to enhance the current abilities to reduce the incidence and extent of harmful algal blooms (before they begin) requires additional research and face legislative hurdles. For example, more research is needed to determine whether a cause-and-effect relationship exists between increased pollution and nutrient loading and an incidence of some HAB species (e.g., Pfiesteria, Pseudo-nitzchia, cyanobacteria). Further, a national regulatory strategy to effectively control polluted run off and nutrient loading is under development; but more research is required to educate decision makers.

Efforts to control HABs are also being explored, but these too face serious scientific and policy hurdles. Attempts to use chemicals to directly control HAB cells encounter many logistical problems and environmental objections. Chemicals are likely to be nonspecific, indiscriminately targeting all co-occurring algae and other organisms along with the target algal species. Chemical application and other options, such as flocculants or biological controls need additional research to determine their wider impacts to the coastal ecosystem.

Strategies to mitigate or minimize human health risks, ecosystem damage, fisheries losses, and declines in tourism due to algal blooms are currently the best option for coastal management of the HAB problem. Many different types of actions can be taken to mitigate the impact of HABs, including forecasting bloom development and movement, monitoring HAB cells and toxins, and responding rapidly to HAB events.

Monitoring combined with rapid response to HAB events has been identified as the most effective way to mitigate the impact of HABs (CENR 2000). A number of coastal states have existing HAB monitoring programs designed to prevent human illness from shellfish poisoning syndromes and to monitor the environment for blooms and forecast their development and movement. State shellfish monitoring programs detect toxins in different fisheries species either to provide advance warning of outbreaks or to delineate areas that require harvest restrictions. State environmental monitoring programs for plankton and fish in coastal estuaries and bays provide early warning of blooms.

Many states supplement their HAB monitoring activities with rapid response teams that are deployed to assess suspected HAB events. HABs have the potential to develop rapidly, and often the observable event may be short-lived. Rapid response is essential to ensure that the appropriate sampling is done to determine whether a HAB event is in progress. Regions also have established communication networks to distribute information about outbreaks to researchers, managers, and the public. Providing rapid and accurate information is critical to assess the risks to resources and human health and to avoid public misconceptions about the safety of coastal resources. Such misconceptions have caused severe economic impacts to regions not directly affected by HAB events. A study completed by Woods Hole Oceanographic Institute in September 2000 calculated the total estimated annual cost from HABs on public health, commercial fisheries, recreation and tourism, and monitoring and management in the United States to be $49 million. This estimate was noted by the authors to be highly conservative and sensitive to single events that equal or exceed the total estimated economic impact.

Many coastal communities experiencing HABs are not covered by regular public or private monitoring programs for HABs, and many do not receive adequate information about outbreaks. State monitoring programs have not kept pace with the expansion of the HABs problem. Tight state budgets and the need to monitor for more toxins in more organisms over larger areas have left many monitoring programs underfunded. Further, support of state monitoring efforts through the Federal Clean Water Program has not specifically addressed the need for increased HAB monitoring. The problem is exacerbated by managers' inability to quantify the benefits to human health, commercial fisheries, recreation and tourism of controlling HABs and to compare these to the costs of mitigation strategies.

CSCOR/COP Program Interest

Through the MERHAB program, CSCOR/COP intends to build capabilities of local, state, tribal, and private sector for regular and intensive measurement of HAB parameters. This will make existing monitoring programs more efficient while providing better coverage in time and space. MERHAB will enable rigorous field testing of state-of-the-art technology through targeted projects and will incorporate the new methods of detecting and tracking HABs into existing monitoring programs through regional, intensive monitoring projects. MERHAB will also develop event-response capabilities within affected regions to ensure trained and equipped personnel are able to mobilize quickly, conduct appropriate sampling and testing, and communicate effectively during HAB events.

With faster, less expensive, and more reliable detection methods for HAB cells and toxins, and stronger mechanisms in place to respond to outbreaks, programs will be better able to mitigate the impact of HABs on vital resources and will protect public health. As a result, managers will be able to better address the expanding HAB problems facing their coastal regions and, therefore, they will be better positioned to request long-term support from Federal and state agencies or from other funding entities.

Goal

The primary goal of the MERHAB program is to incorporate products generated from past or ongoing HAB research programs into operational components of existing monitoring programs in HAB-impacted coastal regions. MERHAB is not intended to provide long-term support for routine monitoring efforts.

A. MERHAB-Targeted Research Projects

(1) Objectives: (a) Develop a technology that will enhance HAB monitoring activities in U.S. coastal waters; and (b) incorporate that technology into existing HAB monitoring programs.

(2) Characteristics: (a) Should rigorously field-test new technologies to detect algal species, toxin, or toxicity and/or monitor the environmental conditions that support HABs. New technologies may include, but are not limited to, rapid field assays for shellfish, improved diagnostic techniques for in situ detection of HAB cells, and remote sensing technology to help target sampling efforts; (b) May be led either by an individual or by small investigative team; and (c) Must address specified research needs of the HAB community.

Investigators should include in their work plans efforts to build support for the incorporation of technology into one or more existing HAB monitoring programs. (See Part II: Further Supplementary Information Section (11) “Project Funding Priorities.”)

B. MERHAB-regional, Intensive Monitoring Projects

(1) Objectives: (a) Develop new or increase existing regional capabilities for HAB monitoring; (b) Incorporate new tools for HAB measurement into existing monitoring efforts; (c) Include local, state, regional, Federal, or non-governmental entities as active partners in identifying environmental measurements and their importance to managing coastal resources and protecting human health (i.e. generating public advisories) in the area; (d) Determine long-term local and regional support that will assume financial responsibility for resulting enhancements in HAB monitoring once NOAA support has ended; and (e) Develop local and/or regional capabilities to respond to HAB events.

(2) Characteristics: (a) Include a suite of annual studies and involve a multi-disciplinary, collaborative team of investigators. The team should represent groups with strong interests in improved HAB monitoring, including, but not limited to, the natural and social science research community, existing monitoring programs, communities dependent upon affected resources, industry, and non-profit organizations; (b) Provide evidence that local, state, tribal, regional, and Federal representatives were consulted in the development of the proposal to ensure appropriate economic, regulatory, and management issues are addressed; (c) Include a plan for continued consultation with these representatives to facilitate the incorporation of research results into existing monitoring programs and to identify means to continue HAB monitoring efforts after MERHAB project funding has ended; (d) Form a management team with a designated chairperson serving as the main point of contact with the MERHAB Program Manager.

In similar CSCOR research programs (i.e. ECOHAB), management teams provide strong leadership and solid partnerships among principal investigators and collaborators. Teams serve to interpret results collected from the expanded suite of pilot studies, permitting acceptance or rejection of the approaches, techniques, or tools explored during each annual budget period. MERHAB management teams will also analyze results for application under local conditions and assess effectiveness under specific constraints so that application to other coastal systems or species may be determined.

Shared Research Project Characteristics

The following characteristics are shared by both MERHAB-Targeted projects and MERHAB-regional, intensive monitoring projects.

(1) Project results will be distributed to stakeholders via scientific, peer-reviewed articles, synthesis documents, briefings, electronic web sites, and any other means defined by the proposers. (2) Project proposals should clearly identify a timetable of accomplishments and major program elements that will lead to specific interim and final assessments of applicability and effectiveness of a number of monitoring approaches.

Continuation of funding will be contingent upon the determination by the awarding agency that the selected project is on course to provide both interim and final products that will improve HAB monitoring capabilities in the local or national coastal environment impacted by HABs.

Expected Products and Outcomes

A. MERHAB-Targeted Projects

(1) Development and testing of new HAB monitoring tools;

(2) Demonstration of effective application of technology in an existing monitoring program; and

(3) Comprehensive data analysis and integration that advances the state of science and management (i.e. technical reports, peer-reviewed publications, databases, numerical and conceptual models, etc.).

B. MERHAB-regional, Intensive Monitoring Projects

(1) Include regional stakeholder input and participation through means that may include, but are not limited to, annual workshops, management and technical advisory committees that involve a broad spectrum of regional interests and training in use of new technology;

(2) Provide recommendations to management of the parameters to be measured in a region and the types of instruments that should be developed or adapted into existing monitoring programs;

(3) Deploy new HAB monitoring tools in existing monitoring programs;

(4) Conduct comprehensive data analysis and integration that advances the state of science and management. (i.e. technical reports, peer-reviewed publications, data bases, numerical and conceptual models; regional case studies with explicit applications to important management issues; risk analysis of management scenarios; regional economic valuation of direct and indirect costs associated with HAB events; and region-specific management recommendations based on study results);

(5) Accept commitments from one or more local, state, tribal, regional, or Federal organizations for continued, long-term support of expanding HAB monitoring capabilities;

(6) Develop real-time, scientific response capability during HAB outbreaks for the region that includes, but is not limited to, the use of local experts, establishing local academic-government- NGO-private partnerships for providing immediate analytical and sampling capacities, and expanding local abilities for transferring samples to analytical services outside the region; and

(7) Outreach to improve awareness of HAB outbreaks and their environmental and societal costs, and to mitigate their impact on vital natural resources, public health and local/regional economies.

Part I: Schedule and Proposal Submission

This document requests full proposals only. The provisions for proposal preparation provided here are mandatory. Proposals received after the published deadline or proposals that deviate from the prescribed format will be returned to the sender without further consideration. Information regarding this announcement, additional background information, and required Federal forms are available on the COP home page.

Full Proposals

Applications submitted in response to this announcement require an original proposal and 19 proposal copies at time of submission. This includes color or high-resolution graphics, unusually sized materials, or otherwise unusual materials submitted as part of the proposal. For color graphics, submit either color originals or color copies. The stated requirements for the number of proposal copies provide for a timely review process. Facsimile transmissions and electronic mail submission of full proposals will not be accepted.

Required Elements

All recipients must follow the instructions in the preparation of the CSCOR/COP application forms included in Part II: Further Supplementary Information, (10) Application forms and kit. Each proposal must also include the following nine elements or it will be returned to sender without further consideration:

(1) Standard Form 424. At time of proposal submission, all applicants shall submit the Standard Form, SF-424 (Rev 7-97), “Application for Federal Assistance,” to indicate the total amount of funding proposed for the whole project period. This form is to be the cover page for the original proposal and all requested copies. Multi-institutional proposals must include signed SF-424 forms from all institutions requesting funding.

(2) Signed summary title page. The title page should be signed by the Principal Investigator (PI). The Summary Title page identifies the project's title starting with the acronym MERHAB 2002, a short title (less than 50 characters), the lead PI's name and affiliation, and complete address, phone, FAX, and E-mail information. The requested budget for each fiscal year should be included on the Summary Title page. Multi-investigator proposals must include the names and affiliations of each investigator on the title page. Multi-institution proposals must also identify the lead investigator from each fiscal year for each institution and the requested funding for each fiscal year for each institution on the title page, but no signatures are required on the title page from the additional institutions. Lead investigator and separate budget information is not requested on the title page for institutions that are proposed to receive funds through a subcontract to the lead institution.

(3) One-page abstract/project summary. The Project Summary (Abstract) Form, submitted with the application, must include summaries of the problem, rationale, scientific objectives and/or hypotheses to be tested, and a brief summary of work to be completed. The prescribed CSCOR/COP format for the Project Summary Form can be found on the CSCOR/COP Internet site under the CSCOR/COP Grants Information section, Part D.

The summary should appear on a separate page, headed with the proposal title, institution(s), investigator(s), total proposed cost, and budget period. It should be written in the third person. The summary is used to help compare proposals quickly and allows the respondents to summarize these key points in their own words.

(4) Statement of work/project description. The statement of the proposed work/project must be complete and include: identification of the problem, scientific objectives, proposed methodology, relevance to the MERHAB 2002 program goals, and its scientific priorities. For MERHAB-Targeted project proposals, the project description (including relevant results from prior support) should not exceed 15 pages. For MERHAB-regional, intensive monitoring project proposals, the project description (including relevant results from prior support) should not exceed 20 pages. Both page limits are inclusive of figures, other visual materials, and letters of endorsement, but are exclusive of references, a milestone chart, and letters of collaboration from unfunded collaborators.

This section should clearly identify project management with a description of the functions of each PI within a team. It should provide a full scientific justification for the research, rather than simply reiterating justifications presented in this document. It should also include:

(a) The objective for the period of proposed work and its expected significance;

(b) The relation to the present state of knowledge in the field and relation to previous work and work in progress by the proposing principal investigator(s);

(c) A discussion of how the proposed project lends value to the program goals;

(d) Potential coordination with other investigators; and,

(5) References cited. Reference information is required. Each reference must include the names of all authors in the same sequence they appear in the publications, the article title, volume number, page numbers, and year of publications. While there is no established page limitation, this section should include bibliographic citations only and should not be used to provide parenthetical information outside the 15-page MERHAB-Targeted project or the 20-page MERHAB-regional project descriptions.

(6) Milestone chart. It should provide time lines of major tasks covering the duration of the proposed project.

(7) Budget and Application Forms Both NOAA and CSCOR/COP-specific application forms may be obtained at the CSCOR/COP Grants website. Forms may be viewed and, in most cases, filled in by computer. All forms must be printed, completed, and mailed to CSCOR/COP. If applicants are unable to access this information, they may call the CSCOR/COP grants administrator previously listed in the section entitled FOR FURTHER INFORMATION CONTACT. At time of proposal submission, all applicants must submit the Standard Form, SF-424 (Rev 7-97) Application for Federal Assistance, to indicate the total amount of funding proposed for the whole project period. Applicants must also submit a COP Summary Proposal Budget Form for each fiscal year increment. Multi-institution proposals must include a Summary Proposal Budget Form for each institution. Use of this budget form will provide for a detailed annual budget and for the level of detail required by the CSCOR/COP program staff to evaluate the effort to be invested by investigators and staff on a specific project. The COP budget form is compatible with forms in use by other agencies that participate in joint projects with CSCOR/COP and can be found on the CSCOR/COP home page under COP Grants Information, Part D. All applications must include a budget narrative and a justification to support all proposed budget categories. The SF-424A, Budget Information (Non-Construction) Form, will be requested only from those applicants subsequently recommended for award.

Ship time needs should be clearly identified in the proposed budget. The investigator is responsible for requesting ship time and for meeting all requirements to ensure the availability of requested ship time. Copies of relevant ship time request forms should be included with the proposal.

(8) Biographical sketch. With each proposal, the following must be included: abbreviated curriculum vitae, up to two pages per investigator; a list of up to five publications most closely related to the proposed project and up to five other significant publications; and a list of all persons (including their organizational affiliation), in alphabetical order, who have collaborated on a project, book, article, or paper within the last 48 months must be included. If no collaborators exist this should be so indicated. Students, post-doctoral associates, and graduate and postgraduate advisors of the PI should also be disclosed. This information is used to help identify potential conflicts of interest or bias in the selection of reviewers.

(9) Proposal format and assembly. The original proposal should be clamped in the upper left-hand corner, but left unbound. The 19 additional copies can be stapled in the upper left-hand corner or bound on the left edge. The page margin must be one inch (2.5 cm) at the top, bottom, left, and right, and the typeface standard 12-point size must be clear and easily legible. Proposals should be single spaced.

Part II: Further Supplementary Information

(1) Program authorities. For a list of all program authorities for the Coastal Ocean Program, see General Grant Administration Terms and Conditions of the Coastal Ocean Program published in the Federal Register (66 FR 63019, December 4, 2001) and at the CSCOR/COP home page. Specific authority cited for this announcement is 16 U.S.C. 1442 and Pub.L. 105-383, title VI, Nov. 13, 1998, 112 Stat. 3447.

(2) Catalog of Federal Domestic Assistance (CFDA) number. The CFDA number for the Coastal Ocean Program is 11.478.

(3) Program description. For complete CSCOR/COP program descriptions, see General Grant Administration Terms and Conditions of the Coastal Ocean Program published in the Federal Register (66 FR 63019, December 4, 2001).

(4) Funding availability. Funding is contingent upon receipt of fiscal years 2002 - 2006 Federal appropriations. Approximately $2,000,000 per fiscal year will be available for supporting studies proposed by submissions to this announcement. Support in out years after FY 2002 is contingent upon the availability of funds. It is anticipated that three to five MERHAB-Targeted research projects will be funded at approximately $100,000 per year for up to three years and that two to three MERHAB-regional, intensive monitoring proposals will be funded at approximately $600,000 per year for up to five years.

If an application is selected for funding, NOAA has no obligation to provide any additional prospective funding in connection with that award in subsequent years. Continuation of an award to increase funding or extend the period of performance is based on satisfactory performance and is at the total discretion of the funding agency. Priority for these funds will be given to proposals that promote balanced coverage of the science objectives stated under this announcement.

Publication of this document does not obligate the CSCOR/COP to any specific award or to obligate any part of the entire amount of funds available. Recipients and subrecipients are subject to all Federal laws and agency policies, regulations, and procedures applicable to Federal financial assistance awards.

(5) Matching requirements. None.

(6) Type of funding instrument. Either project grants or cooperative agreements will be used for non-Federal applicants. Interagency transfer agreements or other appropriate mechanisms other than project grants or cooperative agreements will be used for Federal applicants.

(7) Eligibility criteria. For complete eligibility criteria for the CSCOR/COP, see CSCOR/COP's General Grant Administration Terms and Conditions annual document in the Federal Register (66 FR 63019, December 4, 2001) and the CSCOR/COP home page. Eligible applicants are institutions of higher education, not-for-profit institutions, state, local and Indian tribal governments and Federal agencies. CSCOR/COP will accept proposals that include foreign researchers as collaborators with researchers who are affiliated with a U.S. academic institution, Federal agency, or other non-profit organization.

Applications from non-Federal and Federal applicants will be competed against each other. Proposals selected for funding from non-Federal applicants will be funded through a project grant or cooperative agreement under the terms of this notice. Proposals from NOAA employees selected for funding shall be effected by an intra-agency fund transfer. Proposals selected for funding from a non-NOAA Federal agency will be funded through an inter-agency transfer.

NOTE: Before non-NOAA Federal applicants may be funded, they must demonstrate that they have legal authority to receive funds from another Federal agency in excess of their appropriation. Because this announcement is not proposing to procure goods or services from applicants, the Economy Act (31 U.S.C. 1535) is not an appropriate legal basis.

(8) Award period. Full proposals for targeted projects can cover a project period of up to three years, and full proposals for regional, intensive monitoring projects can cover a project period of up to five years. Multi-year project period funding may be funded incrementally on an annual basis, but, once awarded, multi-year projects will not compete for funding in subsequent years. Each annual award shall require an Implementation Plan and statement of work that can be easily divided into annual increments of meaningful work representing solid accomplishments (if prospective funding is not made available, or is discontinued).

(9) Indirect costs. Regardless of any approved indirect cost rate applicable to the award, the maximum dollar amount of allocable indirect costs for which DOC will reimburse the recipient shall be the lesser of: (a) the line item amount for the Federal share of indirect costs contained in the approved budget of the award; or (b) the Federal share of the total allocable indirect costs of the award based on the indirect cost rate approved by a cognizant or oversight Federal agency and current at the time the cost was incurred, provided the rate is approved on or before the award end date.

(l0) Application forms and kit. For complete information on application forms for the CSCOR/COP, see CSCOR/COP's annual General Grant Administration Terms and Conditions Document in the Federal Register (66 FR 63019, December 4, 2001) at the CSCOR/COP home page and the information given under Required Elements, paragraph (7) Budget.

(11) Project funding priorities. For description of project funding priorities, see CSCOR/COP's annual General Grant Administration Terms and Conditions Document in the Federal Register (66 FR 63019, December 4, 2001) and the CSCOR/COP home page.

(12) Evaluation criteria. For complete information on evaluation criteria, see CSCOR/COP's annual General Grant Administration Terms and Condition Document in the Federal Register (66 FR 63019, December 4, 2001) and the CSCOR/COP home page.

(13) Selection procedures. For complete information on selection procedures, see CSCOR/COP's annual General Grant Administration Terms and Conditions Document in the Federal Register (66 FR 63019, December 4, 2001) and the CSCOR/COP home page. All proposals received under this specific Document will be evaluated and ranked individually in accordance with the assigned weights of the above evaluation criteria by independent peer mail review and/or panel review. No consensus advice will be given by the independent peer mail review or the review panel.

(14) Other requirements. (a) For a complete description of other requirements, see CSCOR/COP's annual General Grant Administration Terms and Conditions Document in the Federal Register (66 FR 63019, December 4, 2001) and the CSCOR/COP home page. NOAA has specific requirements that environmental data be submitted to the National Oceanographic Data Center (see section 16, Data Archiving).

(b) the Department of Commerce Pre-Award Notification Requirements for Grants and Cooperative Agreements contained in the Federal Register (66 FR 49917, October 1, 2001) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

(c) Please note that NOAA is developing a policy on internal overhead charges; NOAA scientists considering submission of proposals should contact the appropriate CSCOR/COP Program Manager for the latest information.

(15) Intergovernmental review. Applications under this program are not subject to Executive Order 12372, “Intergovernmental Review of Federal Programs.” It has been determined that this notice is not significant for purposes of Executive Order 12866. Pursuant to 5 U.S.C. 553(a) (2), an opportunity for public notice and comment is not required for this notice relating to grants, benefits and contracts. Because this notice is exempt from the notice and comment provisions of the Administrative Procedure Act, a Regulatory Flexibility Analysis is not required, and none has been prepared. It has been determined that this notice does not contain policies with Federalism implications as that term is defined in Executive Order 13132.

(16) Data archiving. Any data collected in projects supported by CSCOR/COP must be delivered to a National Data Center (NDC), such as the National Oceanographic Data Center (NODC), in a format to be determined by the institution, the NODC, and Program Officer. It is the responsibility of the funded institution for the delivery of these data; the DOC will not provide additional support for delivery beyond the award. Additionally, all biological cultures established, molecular probes developed, genetic sequences identified, mathematical models constructed, or other resulting information products established through support provided by CSCOR/COP are encouraged to be made available to the general research community at no or a modest handling charge (to be determined by the institution, Program Officer, and DOC). For more details, refer to CSCOR/COP data policy posted at the COP home page.

(17) This notification involves collection-of-information requirements subject to the Paperwork Reduction Act (PRA). The use of Standard Forms 424, 424A, 424B, and SF-LLL has been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the annual Performance Report (5 hours per response), a standardized format for the Final Report (10 hours per response), and the submission of up to 20 copies of proposals (10 minutes per response). The response estimates include the time for reviewing instructions, searching existing data sources, gathering and maintaining the data needed, and completing and reviewing the collection of information.

Send comments regarding these requirements and the burden estimate, or any other aspect of this collection of information, including suggestions for reducing this burden, to leslie.mcdonald@noaa.gov. Copies of these forms and formats can be found on the CSCOR/COP home page under Grants Information sections, Parts D and F.

Notwithstanding any other provision of law, no person is required to respond to, nor shall any person be subject to a penalty for failure to comply with a collection of information subject to the requirements of the Paperwork Reduction Act, unless that collection displays a currently valid OMB control number.

Dated: March 11, 2002.
Jamison S. Hawkins,
Deputy Assistant Administrator for Ocean Services and Coastal Zone Management.

[FR Doc. 02-6747 Filed 3-19-02; 8:45 am]

BILLING CODE 3510-JS-S